DEPARTMENT OF HEALTH AND HUMAN SERVICES

Centers for Medicare & Medicaid Services

42 CFR Parts 416

[CMS-1885-CN]

RIN 0938-AM02

Medicare Program; Update of Ambulatory Surgical Center List of Covered Procedures Effective July 1, 2003; Final Rule Correction

AGENCY: Centers for Medicare & Medicaid Services (CMS), HHS.

ACTION: Correction of final rule.

SUMMARY: This document corrects technical errors that appeared in the final rule with comment period published in the Federal Register on March 28, 2003 entitled “Medicare Program; Update of Ambulatory Surgical Center List of Covered Procedures Effective July 1, 2003; Final Rule.”

EFFECTIVE DATE: July 1, 2003.

FOR FURTHER INFORMATION CONTACT: Bob Cereghino, (410) 786-4645.

SUPPLEMENTARY INFORMATION:

I. Background

In FR Doc. 03-7236 of March 28, 2003 (68 FR 15268), there were a number of technical errors that are identified and corrected in the Correction of Errors section below. The provisions in this correction notice are effective as if they had been included in the document published March 28, 2003. Accordingly, the corrections are effective March 28, 2003.

The errors involve the phone number of the agency contact and 5 HCPCS codes: 21365, 36819, 42415, 52355 and 54512. These codes either have incorrect payment groups or incorrect status indicators.

II. Correction of Errors

In FR Doc. 03-7236 of March 28, 2003 (68 FR 15268), make the following corrections:

1. On page 15268, in the 2nd column, the FOR FURTHER INFORMATION CONTACT section the phone number is corrected as follows: 410-786-4645.

2. On page 15280, HCPCS code 21365, the 2nd column, the status indicator is corrected to read as follows: “D”.

3. On page 15296, HCPCS code 36819 is corrected as follows:

a. The payment group in the 4th column is “3”.

b. The payment amount in the 5th column is “$510”.

4. On page 15298, HCPCS code 42415 is corrected as follows:

a. The payment group in the 4th column is “7”.

b. The payment amount in the 5th column is “$995”.

5. On page 15303, HCPCS code 52355, the 2nd column, the status indicator is corrected to read as follows: “A*”.

6. On page 15304, HCPCS code 54512 is corrected as follows:

a. The payment group in the 4th column is “2”.

b. The payment amount in the 5th column is “$446”.

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

We find it unnecessary to undertake notice and comment rulemaking because this notice merely provides technical corrections to the rule. Therefore, we find good cause to waive notice and comment procedures.

(Catalog of Federal Domestic Assistance Program No. 93.774, Medicare—Supplementary Medical Insurance Program)
Dated: May 12, 2003.
Ann Agnew,
Executive Secretary to the Department.

[FR Doc. 03-13182 Filed 5-29-03; 8:45 am]

BILLING CODE 4120-01-P